DEPARTMENT OF DEFENSE

Office of the Secretary

Finding of No Significant Impact; Pentagon Renovation Master Plan; New Outfall Line Associated With the Pentagon Heating and Refrigeration Plant (H&RP)

AGENCY: Department of Defense.

ACTION: Notice.

In accordance with the National Environmental Policy Act and the policies of the Department of Defense, implementing the regulations of the Council on Environmental Quality (40 CFR 1500-1508), I find that the project described in the Supplemental Environmental Assessment dated July 1999, is not a major Federal action significantly affecting the quality of the human environment. Therefore, no Environmental Impact Statement will be prepared.

This action supplements the Finding of No Significant Impact (FONSI) for the Pentagon Renovation Master Plan dated November 1, 1991. That finding was based on an Environmental Assessment dated May 28, 1991.

This finding is based on the Supplemental Environmental Assessment dated July 1999 on the Condenser Line Outfall associated with the Heating and Refrigeration Plant (H&RP). The Supplemental Environmental Assessment dated July 1999 is incorporated herein.

Name of Responsible Official: Walker Lee Evey.

Title: Program Manager, Pentagon Renovation Program.

Dated: August 1, 2001.
L.M. Bynum,
Alternate OSD Federal Register Liaison, Department of Defense.

[FR Doc. 01-19813 Filed 8-7-01; 8:45 am]

BILLING CODE 5001-08-M